DEPARTMENT OF THE INTERIOR

Geological Survey

National Satellite Land Remote Sensing Data Archive (NSLRSDA) Advisory Committee Meeting

AGENCY: U.S. Geological Survey Interior.

ACTION: Notice of meeting.

SUMMARY: The fourth meeting of the third Charter period will be held on April 19 (8 a.m. to 5 p.m.) April 20 (8 a.m. to 5 p.m.) and April 21 (8 a.m. to Noon), 2006, at The Watergate Hotel, 2650 Virginia Avenue, NW., Washington, DC 20037.

The Committee, comprised of 15 members from academia, industry, government, information science, natural science, social science, and policy/law, will provide the Department of the Interior and USGS management with advice and consultation on defining and accomplishing the NSLRSDA's archiving and access goals to carry out the requirements of the Land Remote Sensing Policy Act; on priorities of the NSLRSDA's tasks; and, on issues of archiving, data management, science, policy, and public-private partnerships.

Topics to be reviewed and discussed by the Committee include determining the content of and upgrading the basic data set as identified by the Congress; metadata content and accessibility; product characteristics; availability, and delivery; and, archiving, data access, and distribution policies.

Agenda will be finalized at the beginning of the meeting.

The meeting is open to all members of the interested public and time on the agenda has been reserved at the conclusion of each day's work for the Committee to receive verbal comments (limited to 5 minutes per person) from the public. To speak before the Committee, please register in advance with Mr. John Faundeen (see contact information below), the USGS Designated Federal Official (DFO) for the Committee.

FOR FURTHER INFORMATION CONTACT: John Faundeen, USGS EROS Archivist, USGS EROS, 47914 252nd Street, Sioux Falls, SD 57198, 605-594-6092, Faundeen@usgs.gov.

Dated: March 30, 2006.
Barbara Ryan,
Associated Director, Geography.

[FR Doc. 06-3242 Filed 4-4-06; 8:45 am]

BILLING CODE 4311-AM-M